DEPARTMENT OF ENERGY

Federal Energy Regulatory Commission

Combined Notice of Filings

Monday, May 3, 2010.

Take notice that the Commission has received the following Natural Gas Pipeline Rate and Refund Report filings:

Docket Numbers: RP10-664-000.

Applicants: Gulf South Pipeline Company, LP.

Description: Gulf South Pipeline Company, LP submits capacity release agreement containing negotiated rate provisions.

Filed Date: 04/29/2010.

Accession Number: 20100429-0255.

Comment Date: 5 p.m. Eastern Time on Tuesday, May 11, 2010.

Docket Numbers: RP10-665-000.

Applicants: Gulf South Pipeline Company, LP.

Description: Gulf South Pipeline Company, LP submits the Negotiated Rate Capacity Release Agreement.

Filed Date: 04/29/2010.

Accession Number: 20100429-0254.

Comment Date: 5 p.m. Eastern Time on Tuesday, May 11, 2010.

Docket Numbers: RP10-666-000.

Applicants: Gulf Crossing Pipeline Company LLC.

Description: Gulf Crossing Pipeline Company LLC submits tariff filing per 154.202: Baseline to be effective 4/30/2010.

Filed Date: 04/30/2010.

Accession Number: 20100430-5028.

Comment Date: 5 p.m. Eastern Time on Wednesday, May 12, 2010.

Docket Numbers: RP10-667-000.

Applicants: Gulf South Pipeline Company, LP.

Description: Gulf South Pipeline Company, LP submits capacity release agreement containing negotiated rate provisions by Gulf South and Trexla Energy Management, Inc.

Filed Date: 04/29/2010.

Accession Number: 20100430-0204.

Comment Date: 5 p.m. Eastern Time on Tuesday, May 11, 2010.

Docket Numbers: RP10-668-000.

Applicants: Texas Eastern Transmission, LP.

Description: Texas Eastern Transmission, LP submits tariff filing per 154.204: NJR negotiated rate, to be effective 5/1/2010.

Filed Date: 04/30/2010.

Accession Number: 20100430-5093.

Comment Date: 5 p.m. Eastern Time on Wednesday, May 12, 2010.

Docket Numbers: RP10-669-000.

Applicants: Kinder Morgan Illinois Pipeline LLC.

Description: Kinder Morgan Illinois Pipeline LLC submits tariff filing per 154.203: Baseline Filing to be effective 4/30/2010.

Filed Date: 04/30/2010.

Accession Number: 20100430-5194.

Comment Date: 5 p.m. Eastern Time on Wednesday, May 12, 2010.

Docket Numbers: RP10-670-000.

Applicants: ANR Pipeline Company.

Description: ANR Pipeline Company 2009 Operational Purchases and Sales Report.

Filed Date: 04/30/2010.

Accession Number: 20100430-5218.

Comment Date: 5 p.m. Eastern Time on Wednesday, May 12, 2010.

Docket Numbers: RP10-671-000.

Applicants: Northern Border Pipeline Company.

Description: Northern Border Pipeline Company 2009 Operational Purchases and Sales Report.

Filed Date: 04/30/2010.

Accession Number: 20100430-5226.

Comment Date: 5 p.m. Eastern Time on Wednesday, May 12, 2010.

Docket Numbers: RP10-672-000.

Applicants: Midcontinent Express Pipeline LLC.

Description: Midcontinent Express Pipeline LLC submits a Negotiated Rate Filing.

Filed Date: 04/30/2010.

Accession Number: 20100430-0260.

Comment Date: 5 p.m. Eastern Time on Wednesday, May 12, 2010.

Docket Numbers: RP10-673-000.

Applicants: Cheyenne Plains Gas Pipeline Company LLC.

Description: Cheyenne Plains Gas Pipeline Company, LLC submits Tenth Revised Sheet 20 to its FERC Gas Tariff, original Volume 1.

Filed Date: 04/30/2010.

Accession Number: 20100430-0227.

Comment Date: 5 p.m. Eastern Time on Wednesday, May 12, 2010.

Docket Numbers: RP10-674-000.

Applicants: Natural Gas Pipeline Company of America.

Description: Natural Gas Pipeline Company submits an amendment to an existing negotiated rate storage Rate Schedule DDS agreement with Interstate Power and Light Company.

Filed Date: 04/30/2010.

Accession Number: 20100430-0229.

Comment Date: 5 p.m. Eastern Time on Wednesday, May 12, 2010.

Docket Numbers: RP10-675-000.

Applicants: Natural Gas Pipeline Company of America.

Description: Natural Gas Pipeline Company of America LLC submits Original Sheet 35C.15 and Negotiated rate Filing.

Filed Date: 04/30/2010.

Accession Number: 20100430-0231.

Comment Date: 5 p.m. Eastern Time on Wednesday, May 12, 2010.

Docket Numbers: RP10-676-000.

Applicants: Natural Gas Pipeline Company of America.

Description: Natural Gas Pipeline Company submits an amendment to an existing negotiated rate exhibit to an existing maximum recourse rate Storage Rate Schedule NSS Agreement.

Filed Date: 04/30/2010.

Accession Number: 20100430-0232.

Comment Date: 5 p.m. Eastern Time on Wednesday, May 12, 2010.

Docket Numbers: RP10-677-000.

Applicants: Texas Eastern Transmission, LP.

Description: Texas Eastern Transmission, LP submits tariff filing per 154.204: NJNG negotiated rate to be effective 5/1/2010.

Filed Date: 04/30/2010.

Accession Number: 20100430-5288.

Comment Date: 5 p.m. Eastern Time on Wednesday, May 12, 2010.

Docket Numbers: RP10-678-000.

Applicants: Vector Pipeline L.P.

Description: Vector Pipeline LP submits Third Revised Sheet no. 4 et al to FERC Gas Tariff, Original Volume No. 1 to be effective 6/1/10.

Filed Date: 04/30/2010.

Accession Number: 20100430-0235.

Comment Date: 5 p.m. Eastern Time on Wednesday, May 12, 2010.

Docket Numbers: RP10-679-000.

Applicants: Trunkline Gas Company, LLC.

Description: Trunkline Gas Company, LLC submits Fifth Revised Sheet 29 et al to FERC Gas Tariff, Third Revised Volume 1, to be effective 5/1/10.

Filed Date: 04/30/2010.

Accession Number: 20100430-0230.

Comment Date: 5 p.m. Eastern Time on Wednesday, May 12, 2010.

Docket Numbers: RP10-680-000.

Applicants: Panhandle Eastern Pipe Line Company, LP.

Description: Panhandle Eastern Pipe Line Company, LP submits its Annual Report of Flow Through of Penalty revenues.

Filed Date: 04/30/2010.

Accession Number: 20100430-0233.

Comment Date: 5 p.m. Eastern Time on Wednesday, May 12, 2010.

Docket Numbers: RP10-681-000.

Applicants: Panhandle Eastern Pipe Line Company, LP.

Description: Panhandle Eastern Pipe Line Company, LP submits their Annual Flow Through of Cash-Out Revenues.

Filed Date: 04/30/2010.

Accession Number: 20100430-0234.

Comment Date: 5 p.m. Eastern Time on Wednesday, May 12, 2010.

Docket Numbers: RP10-682-000.

Applicants: ANR Pipeline Company.

Description: ANR Pipeline Co submits the Annual Cashout Surcharge, Fifty-Third Revised Sheet No. 17 to FERC Gas Tariff, Second Revised Volume No. 1.

Filed Date: 04/30/2010.

Accession Number: 20100430-0258.

Comment Date: 5 p.m. Eastern Time on Wednesday, May 12, 2010.

Docket Numbers: RP10-683-000.

Applicants: Panhandle Eastern Pipe Line Company, LP.

Description: Panhandle Eastern Pipe Line Company, LP submits Third Revised Sheet No. 3A et al to FERC Gas Tariff, Third Revised Volume No. 1, to be effective 6/1/10.

Filed Date: 04/30/2010.

Accession Number: 20100430-0236.

Comment Date: 5 p.m. Eastern Time on Wednesday, May 12, 2010.

Docket Numbers: RP10-685-000.

Applicants: National Fuel Gas Supply Corporation.

Description: Natural Fuel Gas Supply Corporation submits the 135th Revised Sheet 9 et al to FERC Gas Tariff, Fourth Revised Volume 1, to be effective 5/1/10.

Filed Date: 04/30/2010.

Accession Number: 20100430-0256.

Comment Date: 5 p.m. Eastern Time on Wednesday, May 12, 2010.

Docket Numbers: RP10-686-000.

Applicants: Wyoming Interstate Company, LLC.

Description: Wyoming Interstate Company, LLC submits tariff filing per 154.403(d)(2): Quarterly Recomputation of Fuel and L&U Percentages to be effective 6/1/201.

Filed Date: 04/30/2010.

Accession Number: 20100430-5305.

Comment Date: 5 p.m. Eastern Time on Wednesday, May 12, 2010.

Docket Numbers: RP10-687-000.

Applicants: Midcontinent Express Pipeline LLC.

Description: Midcontinent Express Pipeline LLC submits Second Revised Sheet 8 et al, to be effective 6/1/2010.

Filed Date: 04/30/2010.

Accession Number: 20100430-0259.

Comment Date: 5 p.m. Eastern Time on Wednesday, May 12, 2010.

Docket Numbers: RP10-689-000.

Applicants: Colorado Interstate Gas Company.

Description: Colorado Interstate Gas Company submits Eighteenth Revised Sheet 1 et al to FERC Gas Tariff, First Revised Volume 1, to be effective 6/1/10.

Filed Date: 04/30/2010.

Accession Number: 20100503-0215.

Comment Date: 5 p.m. Eastern Time on Wednesday, May 12, 2010.

Docket Numbers: RP10-690-000.

Applicants: Guardian Pipeline, LLC.

Description: Guardian Pipeline, LLC submits Fifth Revised Sheet 8 to FERC Gas Tariff, Original Volume 1, to be effective 6/1/10.

Filed Date: 04/30/2010.

Accession Number: 20100503-0204.

Comment Date: 5 p.m. Eastern Time on Wednesday, May 12, 2010.

Docket Numbers: RP10-691-000.

Applicants: Northern Natural Gas Company.

Description: Northern Natural Gas Company submits the Sixth Revised Sheet 66B.01b et al to FERC Gas Tariff, Fifth Revised Volume 1, to be effective 5/1/10.

Filed Date: 04/30/2010.

Accession Number: 20100503-0205.

Comment Date: 5 p.m. Eastern Time on Wednesday, May 12, 2010.

Docket Numbers: RP10-692-000.

Applicants: Quest Pipelines (KPC).

Description: Quest Pipelines (KPC) submits First Revised Sheet No 182 to its FERC Gas Tariff, Second Revised Volume No 1, to be effective 6/1/10.

Filed Date: 04/30/2010.

Accession Number: 20100503-0208.

Comment Date: 5 p.m. Eastern Time on Wednesday, May 12, 2010.

Docket Numbers: RP10-693-000.

Applicants: Florida Gas Transmission Company, LLC.

Description: Florida Gas Transmission Company, LLC submits the Third Revised Sheet 2 et al to FERC Gas Tariff, Fourth Revised Volume 2 et al, to be effective 6/1/10.

Filed Date: 04/30/2010.

Accession Number: 20100503-0209.

Comment Date: 5 p.m. Eastern Time on Wednesday, May 12, 2010.

Docket Numbers: RP10-694-000.

Applicants: Florida Gas Transmission Company, LLC.

Description: Florida Gas Transmission Company, LLC submits the Second Revised Sheet 5 and 6 to FERC Gas Tariff, Fourth Revised Volume 1, to be effective 6/1/10.

Filed Date: 04/30/2010.

Accession Number: 20100503-0203.

Comment Date: 5 p.m. Eastern Time on Wednesday, May 12, 2010.

Docket Numbers: RP10-695-000.

Applicants: Trunkline Gas Company, LLC.

Description: Trunkline Gas Company, LLC submits Fifth Revised Sheet No. 6 et al to FERC Gas Tariff, Third Revised Volume No. 1, to be effective 6/1/10.

Filed Date: 04/30/2010.

Accession Number: 20100503-0210.

Comment Date: 5 p.m. Eastern Time on Wednesday, May 12, 2010.

Docket Numbers: RP10-696-000.

Applicants: Sea Robin Pipeline Company, LLC.

Description: Sea Robin Pipeline Company, LLC submits the Fifth Revised Sheet 4 to FERC Gas Tariff, Second Revised Volume 1, to be effective 6/1/10.

Filed Date: 04/30/2010.

Accession Number: 20100503-0211.

Comment Date: 5 p.m. Eastern Time on Wednesday, May 12, 2010.

Docket Numbers: RP10-697-000.

Applicants: Questar Overthrust Pipeline Company.

Description: Questar Overthrust Pipeline Company submits Second Revised Sheet No 3 to FERC Gas Tariff, Second Revised Volume No 1-A, to be effective 6/1/10.

Filed Date: 04/30/2010.

Accession Number: 20100503-0212.

Comment Date: 5 p.m. Eastern Time on Wednesday, May 12, 2010.

Docket Numbers: RP10-698-000.

Applicants: White River Hub, LLC.

Description: White River Hub, LLC submits the Second Revised Sheet 4 to FERC Gas Tariff, Original Volume 1, to be effective 6/1/10.

Filed Date: 04/30/2010.

Accession Number: 20100503-0213.

Comment Date: 5 p.m. Eastern Time on Wednesday, May 12, 2010.

Docket Numbers: RP10-699-000.

Applicants: Equitrans, L.P.

Description: Equitrans, LP submits the Twenty-Ninth Revised Sheet 5 to FERC Gas Tariff, Original Volume 1, to be effective 6/1/10.

Filed Date: 04/30/2010.

Accession Number: 20100503-0214.

Comment Date: 5 p.m. Eastern Time on Wednesday, May 12, 2010.

Docket Numbers: RP10-700-000.

Applicants: Gulf Crossing Pipeline Company LLC.

Description: Gulf Crossing Pipeline Company submits amendment to negotiated rate letter agreement.

Filed Date: 04/30/2010.

Accession Number: 20100503-0206.

Comment Date: 5 p.m. Eastern Time on Wednesday, May 12, 2010.

Docket Numbers: RP10-701-000.

Applicants: Williston Basin Interstate Pipeline Co.

Description: Williston Basin Interstate Pipeline Company submits the Twentieth Revised Sheet 5 to FERC Gas Tariff, second revised Volume 1.

Filed Date: 04/30/2010.

Accession Number: 20100503-0207.

Comment Date: 5 p.m. Eastern Time on Wednesday, May 12, 2010.

Docket Numbers: RP10-702-000.

Applicants: Gulfstream Natural Gas System, LLC.

Description: Gulfstream Natural Gas System, LLC submits Twelfth Revised Sheet 7 to FERC Gas Tariff, Original Volume 1, to be effective 6/1/10.

Filed Date: 04/30/2010.

Accession Number: 20100503-0230.

Comment Date: 5 p.m. Eastern Time on Wednesday, May 12, 2010.

Docket Numbers: RP10-703-000.

Applicants: CenterPoint Energy Gas Transmission Co.

Description: CenterPoint Energy Gas Transmission Company submits amended negotiated rate agreement with Chesapeake Energy Marketing, Inc.

Filed Date: 04/30/2010.

Accession Number: 20100503-0231.

Comment Date: 5 p.m. Eastern Time on Wednesday, May 12, 2010.

Docket Numbers: RP10-704-000.

Applicants: Southeast Supply Header, LLC.

Description: Southeast Supply Header, LLC submits First Revised Sheet 13 to FERC Gas Tariff, Original Volume 1 to be effective 6/1/10.

Filed Date: 04/30/2010.

Accession Number: 20100503-0232.

Comment Date: 5 p.m. Eastern Time on Wednesday, May 12, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Deputy Secretary.

[FR Doc. 2010-11122 Filed 5-10-10; 8:45 am]

BILLING CODE 6717-01-P